DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Screening, Brief Intervention, Brief Treatment and Referral to Treatment (SBIRT) Cross-Site Evaluation—New

SAMHSA's Center for Substance Abuse Treatment (CSAT) is conducting a cross-site external evaluation of the impact of programs of screening, brief intervention (BI), brief treatment (BT) and referral to treatment on patients presenting at various health care delivery units with a continuum of severity of substance use. CSAT's SBIRT program is a cooperative agreement grant program designed to help six States and one Tribal Council expand the continuum of care available for substance misuse and use disorders. The program includes screening, BI, BT and referrals for persons at risk for dependence on alcohol or drugs. The primary purpose of the evaluation is to study the extent to which the modified models of SBIRT being implemented by the grantees expand the continuum of care available for treatment of substance use disorders.

A survey will be used to collect data from patients at the participating grantee health care delivery units at baseline using a computer-assisted personal interview (CAPI) and at a six-month follow-up primarily via computer-assisted telephone interviewing (CATI). A second survey will be administered to practitioners who are delivering SBIRT services using CAPI. The patient survey is composed of questions on substance use behaviors and other outcome measures such as productivity, absenteeism, health status, arrests and accidents. The practitioner survey is designed to evaluate the implementation of proposed SBIRT models by measuring their penetration and practitioners' willingness to adopt. Furthermore, the survey will document moderating factors related to practitioner and health care delivery unit characteristics.

Total Burden Hours for the Cross-Site Patient Survey
Instrument/activity | Number of respondents | Number of responses per respondent | Average burden per response | Total burden hours per collection
Cross-Site Patient Survey:
Baseline Data Collection | 10,500 | 1 | .25 | 2,625
6-Month Follow-up Data Collection (80% of baseline) | 8,400 | 1 | .25 | 2,100
Cross-Site Practitioner Survey | 270 | 1 | .25 | 67.5
Total | 19,170 |  |  | 4,793

Send comments to Summer King, SAMHSA Reports Clearance Officer, Room 7-1044, 1 Choke Cherry Road, Rockville, MD 20857. Written comments should be received within 60 days of this notice.

Dated: January 4, 2006.
Anna Marsh,
Director, Office of Program Services.

[FR Doc. E6-209 Filed 1-11-06; 8:45 am]

BILLING CODE 4162-20-P